DEPARTMENT OF THE INTERIOR

National Park Service

[NPS-WASO-NAGPRA-16021PPWOCRADN0-PCU00RP14.R50000]

Notice of Inventory Completion: Indiana University-Purdue University Fort Wayne-Archaeological Survey, Fort Wayne, IN

AGENCY: National Park Service, Interior.

ACTION: Notice.

SUMMARY: The Indiana University-Purdue University Fort Wayne-Archaeological Survey (hereafter IPFW-AS) has completed an inventory of human remains in consultation with the appropriate Indian tribes or Native Hawaiian organizations, and has determined that there is no cultural affiliation between the human remains and any present-day Indian tribes or Native Hawaiian organizations. Representatives of any Indian tribe or Native Hawaiian organization not identified in this notice that wish to request transfer of control of these human remains should submit a written request to the IPFW-AS. If no additional requestors come forward, transfer of control of the human remains to the Indian tribes or Native Hawaiian organizations stated in this notice may proceed.

DATES: Representatives of any Indian tribe or Native Hawaiian organization not identified in this notice that wish to request transfer of control of these human remains should submit a written request with information in support of the request to the IPFW-AS at the address in this notice by August 20, 2014.

ADDRESSES: Craig R. Arnold, IPFW-AS, 2101 East Coliseum Blvd., Kettler Hall Room G11A, Fort Wayne, IN 46805, telephone (260) 481-6194, email arnoldc@ipfw.edu.

SUPPLEMENTARY INFORMATION: Notice is here given in accordance with the Native American Graves Protection and Repatriation Act (NAGPRA), 25 U.S.C. 3003, of the completion of an inventory of human remains under the control of the IPFW-AS, Fort Wayne, IN. The human remains were removed from site 11-K-52, Sleepy Hollow, Kane County, IL.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the IPFW-AS professional staff in consultation with representatives of the Eastern Shawnee Tribe of Oklahoma; Kickapoo Tribe of Indians of the Kickapoo Reservation in Kansas; Miami Tribe of Oklahoma; Peoria Tribe of Indians of Oklahoma; Pokagon Band of Potawatomi Indians, Michigan and Indiana; Shawnee Tribe; and the United Keetoowah Band of Cherokee Indians in Oklahoma.

History and Description of the Remains

In 1984, human remains representing, at minimum, one individual were removed from the Washington Irving site (11K52) in Kane County, IL. The human remains, consisting of the proximal portion of a left tibia, were recovered during excavations by an archeological field school conducted by the Elgin Community College. Information indicates the heavily carnivore-gnawed left tibia element (Catalog No. 11-K-52-01) was recovered from a subsurface pit feature. A conversation with the principal investigator indicates that it was discovered in a refuse filled, or discard, pit feature that also contained Langford-style pottery sherds. A calibrated radiometric date was secured from an unidentified item, which returned a date between A.D. 1250 and 1440. This isolated element came into the custody of the IPFW-AS when the principal investigator became an IPFW-AS employee. The site is now located in a conservation set aside.

Determinations Made by the Indiana University-Purdue University Fort Wayne-Archaeological Survey

Officials of the IPFW-AS have determined that:

• Pursuant to 25 U.S.C. 3001(9), the human remains described in this notice are Native American based on their recovery from an archeological context of a subsurface pit feature which contained Langford style artifacts and returned a radiometric date consistent with this prehistoric group.

• Pursuant to 25 U.S.C. 3001(9), the human remains described in this notice represent the physical remains of one individual of Native American ancestry.

• Pursuant to 25 U.S.C. 3001(2), a relationship of shared group identity cannot be reasonably traced between the Native American human remains and any present-day Indian tribe.

• According to final judgments of the Indian Claims Commission or the Court of Federal Claims, the land from which the Native American human remains were removed is the aboriginal land of the Eastern Shawnee Tribe of Oklahoma; Kickapoo Tribe of Indians of the Kickapoo Reservation in Kansas; Miami Tribe of Oklahoma; Peoria Tribe of Indians of Oklahoma; Pokagon Band of Potawatomi Indians, Michigan and Indiana; Shawnee Tribe; and the United Keetoowah Band of Cherokee Indians in Oklahoma.

• Treaties, Acts of Congress, or Executive Orders, indicate that the land from which the Native American human remains were removed is the aboriginal land of the Eastern Shawnee Tribe of Oklahoma; Kickapoo Tribe of Indians of the Kickapoo Reservation in Kansas; Miami Tribe of Oklahoma; Peoria Tribe of Indians of Oklahoma; Pokagon Band of Potawatomi Indians, Michigan and Indiana; Shawnee Tribe; and the United Keetoowah Band of Cherokee Indians in Oklahoma.

• Pursuant to 43 CFR 10.11(c)(1), the disposition of the human remains may be to the Eastern Shawnee Tribe of Oklahoma; Kickapoo Tribe of Indians of the Kickapoo Reservation in Kansas; Miami Tribe of Oklahoma; Peoria Tribe of Indians of Oklahoma; Pokagon Band of Potawatomi Indians, Michigan and Indiana; Shawnee Tribe; and the United Keetoowah Band of Cherokee Indians in Oklahoma.

Additional Requestors and Disposition

Representatives of any Indian tribe or Native Hawaiian organization not identified in this notice that wish to request transfer of control of these human remains should submit a written request with information in support of the request to Craig Arnold, Indiana University Purdue University at Fort Wayne-Archaeological Survey, 2101 E Coliseum Blvd., Kettler G11A, Fort Wayne, IN 46805, telephone (260) 481-6194, email arnoldc@ipfw.edu, by August 20, 2014. After that date, if no additional requestors have come forward, transfer of control of the human remains to the Eastern Shawnee Tribe of Oklahoma; Kickapoo Tribe of Indians of the Kickapoo Reservation in Kansas; Miami Tribe of Oklahoma; Peoria Tribe of Indians of Oklahoma; Pokagon Band of Potawatomi Indians, Michigan and Indiana; Shawnee Tribe; and the United Keetoowah Band of Cherokee Indians in Oklahoma may proceed.

The IPFW-AS is responsible for notifying the Eastern Shawnee Tribe of Oklahoma; Kickapoo Tribe of Indians of the Kickapoo Reservation in Kansas; Miami Tribe of Oklahoma; Peoria Tribe of Indians of Oklahoma; Pokagon Band of Potawatomi Indians, Michigan and Indiana; Shawnee Tribe; and the United Keetoowah Band of Cherokee Indians in Oklahoma that this notice has been published.

Dated: June 12, 2014.
David Tarler,
Acting Manager, National NAGPRA Program.

[FR Doc. 2014-17093 Filed 7-18-14; 8:45 am]

BILLING CODE 4312-50-P